NUCLEAR REGULATORY COMMISSION

Advisory Committee on Reactor Safeguards; Meeting of the ACRS Subcommittee on Materials, Metallurgy & Reactor Fuels

Revision to September 21, 2011, ACRS Meeting; Federal Register Notice

The Federal Register Notice for the ACRS Subcommittee Meeting on Materials, Metallurgy and Reactor Fuels is being revised to correct the meeting date to Wednesday, September 21, 2011.

The notice of this meeting was previously published in the Federal Register on Wednesday, September 8, 2011, [76 FR 55718]. All other items remain the same as previously published.

If attending this meeting, please contact Mr. Theron Brown (Telephone 240-888-9835) to be escorted to the meeting room.

Dated: September 8, 2011.
Cayetano Santos,
Chief, Technical Support Branch Advisory Committee on Reactor Safeguards.

[FR Doc. 2011-23627 Filed 9-14-11; 8:45 am]

BILLING CODE 7590-01-P